DEPARTMENT OF ENERGY

Federal Energy Regulatory Commission

Combined Notice of Filings

Take notice that the Commission has received the following Natural Gas Pipeline Rate and Refund Report filings:

Docket Numbers: RP20-864-000.

Applicants: Columbia Gas Transmission, LLC.

Description: § 4(d) Rate Filing: TCO NJR Negotiated Rate Agreement Amendment to be effective 5/8/2020.

Filed Date: 5/8/20.

Accession Number: 20200508-5200.

Comments Due: 5 p.m. ET 5/20/20.

Docket Numbers: RP20-850-001.

Applicants: Equitrans, L.P.

Description: Tariff Amendment: Negotiated Rate Capacity Release Agreements—5/1/2020—Correction to be effective 5/1/2020.

Filed Date: 5/11/20.

Accession Number: 20200511-5146.

Comments Due: 5 p.m. ET 5/26/20.

Docket Numbers: RP20-865-000.

Applicants: Leaf River Energy Center LLC.

Description: Compliance filing Leaf River Energy Center LLC NAESB Compliance Filing to be effective 5/6/2020.

Filed Date: 5/11/20.

Accession Number: 20200511-5094.

Comments Due: 5 p.m. ET 5/26/20.

Docket Numbers: RP20-866-000.

Applicants: Trailblazer Pipeline Company LLC.

Description: § 4(d) Rate Filing: TPC 2020-05-11 Negotiated Rate Agreements Amendment to be effective 5/12/2020.

Filed Date: 5/11/20.

Accession Number: 20200511-5123.

Comments Due: 5 p.m. ET 5/26/20.

Docket Numbers: RP20-867-000.

Applicants: Equitrans, L.P.

Description: § 4(d) Rate Filing: Negotiated Capacity Release Agreements—5/10/2020 to be effective 5/10/2020.

Filed Date: 5/11/20.

Accession Number: 20200511-5147.

Comments Due: 5 p.m. ET 5/26/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 12, 2020.
Nathaniel J. Davis, Sr.,
Deputy Secretary.

[FR Doc. 2020-10573 Filed 5-15-20; 8:45 am]

BILLING CODE 6717-01-P